DEPARTMENT OF JUSTICE

Notice of Lodging of Consent Decree Under the Resource Conservation and Recovery Act

Notice is hereby given that on August 6, 2010, a proposed Consent Decree in United States et al. v. CF Industries, Inc., Civil Action No. 8:10-CV-1756T24EAJ was lodged with the United States District Court for the Middle District of Florida.

In this action the United States sought injunctive relief and civil penalties for civil violations of the Resource Conservation and Recovery Act (“RCRA”), 42 U.S.C. 6901 to 6992k, together with its implementing regulations by CF Industries, Inc. (“CFI”). CFI manufactures phosphoric acid, sulfuric acid, and nitrogen and phosphate fertilizer products at a single production facility in Plant City, Florida that has been in operation at the current approximate 3,300 acre site since 1965.

The settlement reflected in the proposed Consent Decree will resolve the violations alleged in the Complaint of Sections 3004 and 3005 of the Resource Conservation and Recovery Act (“RCRA”), 42 U.S.C.A. 6924 and 6925, and the implementing regulations at 40 CFR Parts 261, 262, 264, 265, 268 and 270 that govern the identification, treatment, storage and disposal of hazardous waste, and specifically involve the commingling of hazardous wastes with wastes exempted from RCRA under the Bevill Amendment for mineral processing wastes pursuant to 40 CFR 261.4(b)(7)(ii) (D) and (P).

Under the proposed settlement, CFI has re-engineered its plant to cease generating hazardous wastewater previously commingled with RCRA-exempt mineral processing wastes. CFI also will install a neutralization system to treat 6 million pounds per year of residual hazardous waste; implement a comprehensive leak detection and reduction program; install synthetic protective barriers beneath its production plants; provide $163.5 million in financial assurance to guarantee appropriate closure and long term care of the facility; and pay a penalty of $701,500. Florida is a co-plaintiff in this action, and will share in the penalty and coordinate with EPA to monitor and enforce compliance with the Consent Decree.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. CF Industries, Inc., D.J. Ref. #90-7-1-08388/5.

The Consent Decree may be examined at the Office of the United States Attorney for the Middle District of Florida: 400 N. Tampa Street, Suite 3200, Tampa, Florida 33602, 813.274.6000; 813.274.6358 (Fax); and at the offices of EPA Region 4, Environmental Protection Agency, Atlanta Federal Center, 61 Forsyth Street, SW., Atlanta, GA 30303-3104, Phone: (404) 562-9900 Fax: (404) 562-8174, Toll free: (800) 241-1754.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $82.75 for the entire Consent Decree with Appendices (25 cents per page reproduction cost for 331 pages), or $13.50 for the Consent Decree without Appendices (54 pages), payable to the U.S. Treasury or, if by email or fax, forward a check in that amount to the Consent Decree Library at the stated address.

Maureen Katz,
Assistant Chief, Environmental Enforcement Section Environment and Division, Natural Resources.

[FR Doc. 2010-19799 Filed 8-10-10; 8:45 am]

BILLING CODE 4410-15-P